DEPARTMENT OF ENERGY

Federal Energy Regulatory Commission

[Project No. 12775-001]

City of Spearfish, SD; Notice of Scoping Meetings and Site Visit and Soliciting Scoping Comments

December 2, 2008.

Take notice that the following hydroelectric application has been filed with the Commission and is available for public inspection.

a. Type of Application: Major Project.

b. Project No.: P-12775-001.

c. Date filed: September 10, 2008.

d. Applicant: City of Spearfish, South Dakota.

e. Name of Project: Spearfish Hydroelectric Project.

f. Location: On Spearfish Creek in Lawrence County, South Dakota. The project occupies about 57.3 acres of United States lands within the Black Hills National Forest administered by the U.S. Forest Service.

g. Filed Pursuant to: Federal Power Act 16 U.S.C. 791(a)-825(r).

h. Applicant Contact: Ms. Cheryl Johnson, Public Works Administrator, City of Spearfish, 625 Fifth Street, Spearfish, SD 57783; (605) 642-1333; or e-mail at cherylj@city.spearfish.sd.us.

i. FERC Contact: Steve Hocking at (202) 502-8753; or e-mail at steve.hocking@ferc.gov.

j. Deadline for filing scoping comments: February 13, 2009.

All documents (original and eight copies) should be filed with: Kimberly D. Bose, Secretary, Federal Energy Regulatory Commission, 888 First Street, NE., Washington, DC 20426.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The existing Spearfish Project consists of: (1) A 130-foot-long, 4-foot-high concrete gravity dam; (2) a 0.32-acre reservoir; (3) a gatehouse next to the dam that contains four 2-foot-high, 4-foot-wide steel intake gates; (4) a 4.5-mile-long, 6.5-foot-wide, 9-foot-high concrete-lined rock tunnel; (5) a forebay pond; (6) two 1,200-foot-long, 48-inch diameter, wood stave pipelines; (7) four 36-inch-diameter, 54-foot-high standpipe surge towers; (8) two 4,700-foot-long, 30-to 34-inch diameter steel penstocks; (9) a reinforced concrete powerhouse containing two Pelton turbines and two, 2,000-kilowatt generators; and (10) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process

The Commission intends to prepare a single (no draft) environmental assessment (EA) for the project in accordance with the National Environmental Policy Act. The EA will consider both site-specific and cumulative environmental impacts and reasonable alternatives to the proposed action.

Scoping Meetings

Commission staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Evening Scoping Meeting

Date and Time: January 13, 2009, from 7 p.m. to 10 p.m.

Location: City of Spearfish Council Center, 625 Fifth Street, Spearfish, SD 57783.

Daytime Scoping Meeting

Date and Time: January 14, 2009, from 10 a.m. to 2 p.m.

Location: City of Spearfish Council Center, 625 Fifth Street, Spearfish, SD 57783.

Copies of the Scoping Document (SD1) outlining the subject areas to be addressed in the EA were distributed to the parties on the Commission's mailing list for this project. Copes of SD1 will be available at the scoping meeting or may be viewed on the Web at http://www.ferc.gov using the “eLibrary” link (see item m above).

Site Visit

Commission staff will hold a site visit to the project on January 13, 2009, from 9 a.m. to about 12 noon. Anyone wishing to attend the site visit should meet at the Spearfish Project powerhouse at 9 a.m. located at 520 S. Canyon, Spearfish, South Dakota 57783. We will drive to the dam and stop along the way to view Spearfish Creek; drive to the project's forebay and standpipe facilities; then drive back to the project's powerhouse and take a tour of the powerhouse. All participants are responsible for their own transportation.

The site visit scheduled for January 13, 2009, is weather dependent. If the site visit is cancelled, notice will be placed on the Commission's January 13, 2009, calendar which can be found on the Commission's Web site (http://www.ferc.gov). Please check the Commission's January 13, 2009, calendar before leaving in the morning to attend the site visit.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

Scoping meetings will be recorded by a stenographer and will become part of the Commission's formal record for this proceeding.

Individuals, organizations, and agencies with environmental expertise and concerns are encouraged to attend the meeting and to assist the staff in defining and clarifying the issues to be addressed in the EA.

Kimberly D. Bose,
Secretary.

[FR Doc. E8-28923 Filed 12-5-08; 8:45 am]

BILLING CODE 6717-01-P